DEPARTMENT OF ENERGY

Federal Energy Regulatory Commission

Combined Notice of Filings #1

Take notice that the Commission received the following electric corporate filings:

Docket Numbers: EC22-77-000.

Applicants: Wisconsin River Power Company, Wisconsin Power and Light Company, Wisconsin Public Service Corporation.

Description: Joint Application for Authorization Under Section 203 of the Federal Power Act of Wisconsin River Power Company, et al.

Filed Date: 6/16/22.

Accession Number: 20220616-5185.

Comment Date: 5 p.m. ET 7/7/22.

Take notice that the Commission received the following exempt wholesale generator filings:

Docket Numbers: EG22-146-000.

Applicants: Invenergy Nelson Expansion LLC.

Description: Invenergy Nelson Expansion LLC submits Notice of Self-Certification of Exempt Wholesale Generator Status.

Filed Date: 6/17/22.

Accession Number: 20220617-5043.

Comment Date: 5 p.m. ET 7/8/22.

Docket Numbers: EG22-147-000.

Applicants: Invenergy Nelson LLC.

Description: Invenergy Nelson LLC submits Notice of Self-Certification of Exempt Wholesale Generator Status.

Filed Date: 6/17/22.

Accession Number: 20220617-5049.

Comment Date: 5 p.m. ET 7/8/22.

Docket Numbers: EG22-148-000.

Applicants: West Texas Solar Project II LLC.

Description: Notice of Self-Certification of Exempt Wholesale Generator Status of West Texas Solar Project II LLC.

Filed Date: 6/17/22.

Accession Number: 20220617-5075.

Comment Date: 5 p.m. ET 7/8/22.

Take notice that the Commission received the following electric rate filings:

Docket Numbers: ER11-2366-001.

Applicants: Lincoln Generating Facility, LLC.

Description: Compliance filing: Informational Filing Pursuant to Schedule 2 of the PJM OATT & Request for Waiver to be effective N/A.

Filed Date: 6/17/22.

Accession Number: 20220617-5048.

Comment Date: 5 p.m. ET 7/8/22.

Docket Numbers: ER11-3110-001.

Applicants: Crete Energy Venture, LLC.

Description: Compliance filing: Informational Filing Pursuant to Schedule 2 of the PJM OATT & Request for Waiver to be effective N/A.

Filed Date: 6/17/22.

Accession Number: 20220617-5046.

Comment Date: 5 p.m. ET 7/8/22.

Docket Numbers: ER21-55-000.

Applicants: Mesquite Power, LLC.

Description: Refund Report: Refund Report—Mesquite Power, LLC (ER21-55-et al.) to be effective N/A.

Filed Date: 6/17/22.

Accession Number: 20220617-5154.

Comment Date: 5 p.m. ET 7/8/22.

Docket Numbers: ER21-60-000.

Applicants: PacifiCorp.

Description: Refund Report: April 18 Order Refund Report for ER21-60 to be effective N/A.

Filed Date: 6/17/22.

Accession Number: 20220617-5098.

Comment Date: 5 p.m. ET 7/8/22.

Docket Numbers: ER22-983-001.

Applicants: ISO New England Inc., New England Power Pool Participants Committee.

Description: Compliance filing: ISO New England Inc. submits tariff filing per 35: ISO-NE Response to Commission Request for Additional Information to be effective N/A.

Filed Date: 6/17/22.

Accession Number: 20220617-5073.

Comment Date: 5 p.m. ET 7/8/22.

Docket Numbers: ER22-2134-000.

Applicants: Public Service Company of Colorado.

Description: § 205(d) Rate Filing: 2022-06-16-PSCo-TSGT-WAPA-Load to Move from PSCoBA to WACM-694-0.0.0 to be effective 6/17/2022.

Filed Date: 6/16/22.

Accession Number: 20220616-5167.

Comment Date: 5 p.m. ET 7/7/22.

Docket Numbers: ER22-2135-000.

Applicants: Covanta Delano, Inc.

Description: Tariff Amendment: Notice of Cancellation to be effective 6/17/2022.

Filed Date: 6/16/22.

Accession Number: 20220616-5169.

Comment Date: 5 p.m. ET 7/7/22.

Docket Numbers: ER22-2136-000.

Applicants: Associated Electric Cooperative, Inc.

Description: Request for Waiver of Tariff Provisions, et al. of Associated Electric Cooperative, Inc.

Filed Date: 6/16/22.

Accession Number: 20220616-5190.

Comment Date: 5 p.m. ET 7/7/22.

Docket Numbers: ER22-2137-000.

Applicants: PJM Interconnection, L.L.C.

Description: § 205(d) Rate Filing: Amendment to ISA, Service Agreement No. 5359; Queue Nos. AB1-141/AB1-142 to be effective 4/9/2019.

Filed Date: 6/17/22.

Accession Number: 20220617-5028.

Comment Date: 5 p.m. ET 7/8/22.

Docket Numbers: ER22-2138-000.

Applicants: PJM Interconnection, L.L.C.

Description: § 205(d) Rate Filing: Amendment to WMPA, Service Agreement No. 6082; Queue No. AF1-039 to be effective 4/30/2021.

Filed Date: 6/17/22.

Accession Number: 20220617-5037.

Comment Date: 5 p.m. ET 7/8/22.

Docket Numbers: ER22-2139-000.

Applicants: Southwest Power Pool, Inc.

Description: § 205(d) Rate Filing: 607R42 Evergy Kansas Central, Inc. NITSA NOA to be effective 6/1/2022.

Filed Date: 6/17/22.

Accession Number: 20220617-5054.

Comment Date: 5 p.m. ET 7/8/22.

Docket Numbers: ER22-2140-000.

Applicants: Pacific Gas and Electric Company.

Description: Tariff Amendment: Termination of PG&E Llagas Energy Storage SGIA (SA 387) to be effective 8/17/2022.

Filed Date: 6/17/22.

Accession Number: 20220617-5076.

Comment Date: 5 p.m. ET 7/8/22.

Docket Numbers: ER22-2141-000.

Applicants: Sun Mountain Solar 1, LLC.

Description: Baseline eTariff Filing: Market-Based Rate Tariff Application with Expedited & Confidential Treatment to be effective 8/16/2022.

Filed Date: 6/17/22.

Accession Number: 20220617-5085.

Comment Date: 5 p.m. ET 7/8/22.

Docket Numbers: ER22-2142-000.

Applicants: Southern California Edison Company.

Description: § 205(d) Rate Filing: LA, Kramer Junction 6-7 (Resurgence 2) TOT695-TOT696 to be effective 6/18/2022.

Filed Date: 6/17/22.

Accession Number: 20220617-5088.

Comment Date: 5 p.m. ET 7/8/22.

Docket Numbers: ER22-2143-000.

Applicants: Southern California Edison Company.

Description: § 205(d) Rate Filing: LA, Kramer Junction 3-5 (Resurgence 1) TOT692-TOT694 to be effective 6/18/2022.

Filed Date: 6/17/22.

Accession Number: 20220617-5093.

Comment Date: 5 p.m. ET 7/8/22.

Docket Numbers: ER22-2144-000.

Applicants: Invenergy Nelson Expansion LLC.

Description: Baseline eTariff Filing: Application for Market-Based Rate Authorization to be effective 8/17/2022.

Filed Date: 6/17/22.

Accession Number: 20220617-5097.

Comment Date: 5 p.m. ET 7/8/22.

Docket Numbers: ER22-2145-000.

Applicants: PJM Interconnection, L.L.C.

Description: § 205(d) Rate Filing: Revisions to the Tariff and RAA RE: Update AEP and its affiliate company names to be effective 12/31/9998.

Filed Date: 6/17/22.

Accession Number: 20220617-5103.

Comment Date: 5 p.m. ET 7/8/22.

Docket Numbers: ER22-2146-000.

Applicants: PJM Interconnection, L.L.C.

Description: § 205(d) Rate Filing: Revisions to the CTOA RE: Update AEP and its affiliate company names to be effective 12/31/9998.

Filed Date: 6/17/22.

Accession Number: 20220617-5104.

Comment Date: 5 p.m. ET 7/8/22.

Docket Numbers: ER22-2147-000.

Applicants: PacifiCorp.

Description: § 205(d) Rate Filing: Tri-State, Empire Const Agmt at Pinto (Rev 2) to be effective 8/17/2022.

Filed Date: 6/17/22.

Accession Number: 20220617-5109.

Comment Date: 5 p.m. ET 7/8/22.

Docket Numbers: ER22-2148-000.

Applicants: Blooming Grove Wind Energy Center LLC.

Description: Baseline eTariff Filing: Reactive Power Rate Schedule to be effective 6/18/2022.

Filed Date: 6/17/22.

Accession Number: 20220617-5115.

Comment Date: 5 p.m. ET 7/8/22.

Docket Numbers: ER22-2149-000.

Applicants: Tampa Electric Company.

Description: § 205(d) Rate Filing: Amended and Restated RS 103 DEF Dale Mabry—Morgan Road to be effective 9/1/2022.

Filed Date: 6/17/22.

Accession Number: 20220617-5118.

Comment Date: 5 p.m. ET 7/8/22.

Docket Numbers: ER22-2150-000.

Applicants: Midcontinent Independent System Operator, Inc.

Description: Compliance filing: 2022-06-17_Request for Extension of Schedule 29 and 29A Waivers to be effective N/A.

Filed Date: 6/17/22.

Accession Number: 20220617-5127.

Comment Date: 5 p.m. ET 6/24/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 17, 2022.
Kimberly D. Bose,
Secretary.

[FR Doc. 2022-13516 Filed 6-23-22; 8:45 am]

BILLING CODE 6717-01-P